DEPARTMENT OF THE INTERIOR

National Park Service

[N6554; NPS-WASO-NAGPRA-NPS0041143; PPWOCRADN0-PCU00RP14.R50000]

Notice of Intended Repatriation: Robert S. Peabody Institute of Archaeology, Andover, MA

AGENCY: National Park Service, Interior.

ACTION: Notice.

SUMMARY: In accordance with the Native American Graves Protection and Repatriation Act (NAGPRA), the Robert S. Peabody Institute of Archaeology intends to repatriate certain cultural items that meet the definition of unassociated funerary objects and that have a cultural affiliation with the Indian Tribes or Native Hawaiian organizations in this notice.

DATES: Repatriation of the cultural items in this notice may occur on or after October 27, 2025.

ADDRESSES: Send additional, written requests for repatriation of the cultural items in this notice to Ryan J. Wheeler, Robert S. Peabody Institute of Archaeology, Phillips Academy, 180 Main Street, Andover, MA 01810, email rwheeler@andover.edu.

SUPPLEMENTARY INFORMATION: This notice is published as part of the National Park Service's administrative responsibilities under NAGPRA. The determinations in this notice are the sole responsibility of the Robert S. Peabody Institute of Archaeology, and additional information on the determinations in this notice, including the results of consultation, can be found in the summary or related records. The National Park Service is not responsible for the determinations in this notice.

Abstract of Information Available

A total of 24 cultural items have been requested for repatriation. The 24 unassociated funerary objects include ceramic vessels and sherds; mineral/mica; chipped and ground stone tools; shell cups, tools and ornaments; and modified animal bone. In 1901, Clarence B. Moore removed the cultural items from the following sites on what is now Tyndall Air Force Base, Bay County, Florida: Mound near Davis Point (8BY7); Mound near Pearl Bayou, St. Andrew's Bay (8BY25); Mound near Strange's Landing, St. Andrew's Bay (8BY26); Larger Mound in Hare Hammock (8BY30); Smaller Mound in Hare Hammock (8BY31); locality in Calhoun County, Florida, which may be Baker's Landing (8BY29). Moore transferred the cultural items to the Robert S. Peabody Institute of Archaeology (then called the Department of Archaeology) in the early twentieth century, where they were cataloged with the following numbers: 38969; 38983; 39033; 39055; 39066; 39068; 39070; 39071; 39074; 39077; 39112; 39122; 39134; 39153; 39171; 39185; 39193; 39258; 39286; 39287; 39295; 39337; 39371; and 40376. A summary produced by the RSPI in December 2024 acknowledged affiliation of these cultural items with the Alabama-Coushatta Tribe of Texas, Jena Band of Choctaw Indians, Miccosukee Tribe of Indians, Mississippi Band of Choctaw Indians, Poarch Band of Creek Indians, Seminole Tribe of Florida, The Choctaw Nation of Oklahoma, The Muscogee (Creek) Nation, The Seminole Nation of Oklahoma, Thlopthlocco Tribal Town, and other Muskogean Tribes. There is no known presence of any potentially hazardous substances.

Determinations

The Robert S. Peabody Institute of Archaeology has determined that:

• The 24 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Seminole Tribe of Florida.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 27, 2025. If competing requests for repatriation are received, the Robert S. Peabody Institute of Archaeology must determine the most appropriate requestor prior to repatriation. Requests for joint repatriation of the cultural items are considered a single request and not competing requests. The Robert S. Peabody Institute of Archaeology is responsible for sending a copy of this notice to the Indian Tribes and Native Hawaiian organizations identified in this notice and to any other consulting parties.

Authority: Native American Graves Protection and Repatriation Act, 25 U.S.C. 3004 and the implementing regulations, 43 CFR 10.9.

Dated: September 11, 2025.
Melanie O'Brien,
Manager, National NAGPRA Program.

[FR Doc. 2025-18587 Filed 9-24-25; 8:45 am]

BILLING CODE 4312-52-P